DEPARTMENT OF HEALTH AND HUMAN SERVICES

Office of the Secretary

[Document Identifier HHS-OS-20078-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0360, scheduled to expire on September 30, 2013. Comments submitted during the first public review of this ICR will be provided to OMB. OMB will accept further comments from the public on this ICR during the review and approval period.

DATES: Comments on the ICR must be received on or before October 28, 2013.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0360 and document identifier HHS-OS-20078-30D for reference.

Information Collection Request Title: Girls at Greater Risk for Juvenile Delinquency and HIV Prevention Program.

OMB No.: 0990-0360.

Abstract: The Office on Women's Health (OWH) is seeking an extension of its data collection associated with the evaluation of the Girls at Greater Risk for Juvenile Delinquency and HIV Prevention Program. The evaluation is designed to determine best practices and gender responsive strategies for at-risk girls between the ages of nine and 17 years. Data will continue to be collected from program participants (girls), parents of program participants, program staff (i.e. program directors and program staff), program partners, and community residents. Collected data will be submitted to OWH on a quarterly basis. Primarily private non-profit organizations and girls and adolescents participating in the program and their parents will be affected by this data collection.

Need and Proposed Use of the Information: The purpose of the extended data collection is to add to the evaluation database. The Girls at Greater Risk Program is in its final year and the data collected from participants will add another full data cohort to the evaluation.

Likely Respondents: The respondents are primarily private non-profit organizations, girls and adolescent females participating in funded “Girls at Greater Risk for Juvenile Delinquency and HIV Prevention Programs”, parents of program participants, program staff (i.e. program directors and program staff), program partners, and community residents that participate in community events sponsored by the Girls at Greater Risk Program.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Prevention Education Questionnaire (Girls and Female Adolescents) | 750 | 2 | 2 | 3,000
Girls at Greater Risk Focus Group Protocol for Program Participants and Background Information for Participant Focus Group | 120 | 1 | 1.5 | 180
Girls at Greater Risk Focus Group Protocol for Parents/Legal Guardians of Participants and Background Information for Parent Focus Group | 120 | 1 | 1.5 | 180
Girls at Greater Risk Focus Group Protocol for Partners and Background Information for Partners Focus Group | 120 | 1 | 1.5 | 180
Partners: Process Evaluation Questionnaire | 60 | 1 | .75 | 45
Program Staff: Process Evaluation Questionnaire | 10 | 2 | .75 | 15
Program Directors: Process Evaluation Questionnaire | 10 | 2 | 1.5 | 30
Program Staff data capture (entry) into data portal | 10 | 150 | .5 | 750
Community Event Survey | 250 | 1 | .083 | 21
Total | 1450 |  |  | 4,401

Office of the Secretary specifically requests comments on (1) The necessity and utility of the proposed information collection for the proper performance of the agency's functions, (2) the accuracy of the estimated burden, (3) ways to enhance the quality, utility, and clarity of the information to be collected, and (4) the use of automated collection techniques or other forms of information technology to minimize the information collection burden.

Keith A. Tucker,
Information Collection Clearance Officer.

[FR Doc. 2013-23409 Filed 9-25-13; 8:45 am]

BILLING CODE 4150-33-P